SURFACE TRANSPORTATION BOARD

[Docket No. FD 36613]

Commonwealth Railway, Incorporated—Trackage Rights Exemption—Norfolk Southern Railway Company

Commonwealth Railway, Incorporated (CWRY), a Class III rail carrier, has filed a verified notice of exemption under 49 CFR 1180.2(d)(7) for the acquisition of local trackage rights over approximately 2.3 miles of rail line owned by Norfolk Southern Railway (NSR) in and near Fairview, W. Va., between approximately States Run Road at milepost LR 77.3 and the end of the track at approximately milepost LR 79.6 (the Line).

Pursuant to a written trackage rights agreement, NSR is granting CWRY trackage rights on the Line to provide local switching service to and from the American Consolidated Natural Resources, Inc., facility at Fairview.¹

¹ A redacted copy of the agreement is attached to the verified notice. An unredacted copy has been filed under seal along with a motion for protective order pursuant to 49 CFR 1104.14. That motion is being addressed in a separate decision.

The transaction may be consummated on July 6, 2022, the effective date of the exemption (30 days after the verified notice was filed).

As a condition to this exemption, any employees affected by the acquisition of the trackage rights will be protected by the conditions imposed in Norfolk & Western Railway—Trackage Rights—Burlington Northern, Inc., 354 I.C.C. 605 (1978), as modified in Mendocino Coast Railway—Lease & Operate—California Western Railroad, 360 I.C.C. 653 (1980).

If the notice contains false or misleading information, the exemption is void ab initio. Petitions to revoke the exemption under 49 U.S.C. 10502(d) may be filed at any time. The filing of a petition to revoke will not automatically stay the effectiveness of the exemption. Petitions for stay must be filed by June 29, 2022 (at least seven days before the exemption becomes effective).

All pleadings, referring to Docket No. FD 36613, should be filed with the Surface Transportation Board either via e-filing or in writing addressed to 395 E Street SW, Washington, DC 20423-0001. In addition, a copy of each pleading must be served on CWRY's representative, Eric M. Hocky, Clark Hill PLC, Two Commerce Square, 2001 Market St., Suite 2620, Philadelphia, PA 19103.

According to CWRY, this action is categorically excluded from environmental review under 49 CFR 1105.6(c) and from historic preservation reporting requirements under 49 CFR 1105.8(b)(3).

Board decisions and notices are available at www.stb.gov.

Decided: June 16, 2022.
By the Board, Valerie O. Quinn, Acting Director, Office of Proceedings.
Jeffrey Herzig,
Clearance Clerk.

[FR Doc. 2022-13389 Filed 6-21-22; 8:45 am]

BILLING CODE 4915-01-P